DEPARTMENT OF HOMELAND SECURITY

U.S. Citizenship and Immigration Services

[CIS No. 2535-13; DHS Docket No. USCIS-2013-0001]

RIN 1615-ZB22

Extension and Redesignation of Syria for Temporary Protected Status

AGENCY: U.S. Citizenship and Immigration Services, Department of Homeland Security.

ACTION: Notice.

SUMMARY: Through this Notice, the Department of Homeland Security (DHS) announces that the Secretary of Homeland Security (Secretary) is extending the existing designation of Syria for Temporary Protected Status (TPS) for 18 months, from October 1, 2013 through March 31, 2015, and redesignating Syria for TPS for 18 months, effective October 1, 2013 through March 31, 2015.

The extension allows currently eligible TPS beneficiaries to retain TPS through March 31, 2015 so long as they otherwise continue to meet the terms and conditions of TPS status. The redesignation of Syria allows additional individuals who have been continuously residing in the United States since June 17, 2013 to obtain TPS, if otherwise eligible. The Secretary has determined that an extension and redesignation are warranted because the extraordinary and temporary conditions in Syria that prompted the 2012 TPS designation have not only persisted, but have deteriorated, and because there is now an on-going armed conflict in Syria that would pose a serious threat to the personal safety of Syrian nationals if they were required to return to their country.

Through this Notice, DHS also sets forth procedures necessary for nationals of Syria (or aliens having no nationality who last habitually resided in Syria) either to: (1) Re-register under the extension if they already have TPS and to apply for renewal of their Employment Authorization Documents (EADs) with U.S. Citizenship and Immigration Services (USCIS); or (2) submit an initial registration application under the redesignation and apply for an EAD.

For individuals who have already been granted TPS under the original Syria designation, the 60-day re-registration period runs from June 17, 2013 through August 16, 2013. USCIS will issue new EADs with a March 31, 2015 expiration date to eligible Syrian TPS beneficiaries who timely re-register and apply for EADs under this extension.

Under the redesignation, individuals who currently do not have TPS (or an initial TPS application pending) may submit an initial application during the 180-day initial registration period that runs from June 17, 2013 through December 16, 2013. In addition to demonstrating continuous residence in the United States since June 17, 2013 and meeting other eligibility criteria, initial applicants for TPS under this redesignation must demonstrate that they have been continuously physically present in the United States since October 1, 2013, the effective date of the redesignation of Syria, before USCIS can finally grant them TPS.

TPS applications that were filed during the original Syria designation that opened on March 29, 2012, and remain pending on June 17, 2013 will be treated as initial applications under the redesignation. Therefore, individuals who have a pending TPS application will not need to file a new Application for Temporary Protected Status (Form I-821). DHS provides additional instructions in this Notice for individuals whose TPS applications remain pending and who would like to obtain an EAD valid through March 31, 2015.

DATES: Extension of Designation of Syria for TPS: The 18-month extension of the TPS designation of Syria is effective October 1, 2013, and will remain in effect through March 31, 2015. The 60-day re-registration period runs from June 17, 2013 through August 16, 2013.

Redesignation of Syria for TPS: The redesignation of Syria for TPS is effective October 1, 2013, and will remain in effect through March 31, 2015, a period of 18 months. The 180-day initial registration period for new applicants under the Syria TPS redesignation runs from June 17, 2013 through December 16, 2013.

Further Information

• For further information on TPS, including guidance on the application process and additional information on eligibility, please visit the USCIS TPS Web page at http://www.uscis.gov/tps. You can find specific information about this extension and redesignation of Syria for TPS by selecting “TPS Designated Country: Syria” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS Notice. It is not for individual case status inquiries.

• Applicants seeking information about the status of their individual cases can check Case Status Online, available at the USCIS Web site at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

DOS—Department of State

EAD—Employment Authorization Document

FSA—Free Syrian Army

Government—U.S. Government

IDP—Internally Displaced Persons

IJ—Immigration Judge

INA—Immigration and Nationality Act

OSC—U.S. Department of Justice, Office of Special Counsel for Immigration-Related Unfair Employment Practices

SARG—Syrian Arab Republic Government

SAVE—USCIS Systematic Alien Verification for Entitlements Program

Secretary—Secretary of Homeland Security

Syria—Syrian Arab Republic

TPS—Temporary Protected Status

UN—United Nations

UNHCR—Office of the UN High Commissioner for Refugees

USCIS—U.S. Citizenship and Immigration Services

What is Temporary Protected Status (TPS)?

• TPS is a temporary immigration status granted to eligible nationals of a country designated for TPS under the Immigration and Nationality Act (INA), or to eligible persons without nationality who last habitually resided in the designated country.

• During the TPS designation period, TPS beneficiaries are eligible to remain in the United States and may obtain work authorization, so long as they continue to meet the requirements of TPS status.

• TPS beneficiaries may also be granted travel authorization as a matter of discretion.

• The granting of TPS does not lead to permanent resident status.

• When the Secretary terminates a country's TPS designation, beneficiaries return to the same immigration status they maintained before TPS, if any (unless that status has since expired or been terminated), or to any other lawfully obtained immigration status they received while registered for TPS.

When was Syria designated for TPS?

On March 29, 2012, the Secretary designated Syria for TPS based on extraordinary and temporary conditions within that country that prevent Syrian nationals from returning to Syria in safety. See Designation of Syrian Arab Republic for Temporary Protected Status, 77 FR 19026 (Mar. 29, 2012), and correction at 77 FR 20046 (Apr. 3, 2012); see also section 244(b)(1)(C) of the INA, 8 U.S.C. 1254a(b)(1)(C). This announcement is the first extension and the first redesignation of TPS for Syria.

What authority does the Secretary have to extend the designation of Syria for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or, in the Secretary's discretion, for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

What is the Secretary's authority to redesignate Syria for TPS?

In addition to extending an existing TPS designation, the Secretary, after consultation with appropriate Government agencies, may redesignate a country (or part thereof) for TPS. See section 244(b)(1) of the INA, 8 U.S.C. 1254a(b)(1); see also section 244(c)(1)(A)(i) of the INA, 8 U.S.C. 1254a(c)(1)(A)(i) (requiring that “the alien has been continuously physically present since the effective date of the most recent designation of the state”) (emphasis added). This is one of several instances in which the Secretary, and, prior to the establishment of DHS, the Attorney General, have simultaneously extended a country's TPS designation and redesignated the country for TPS. See, e.g., Extension and Redesignation of South Sudan for Temporary Protected Status, 78 FR 1866 (Jan. 9, 2013); Extension and Redesignation of Sudan for Temporary Protected Status, 78 FR 1872 (Jan. 9, 2013); Extension and Redesignation of Haiti for Temporary Protected Status, 76 FR 29000 (May 19, 2011); Extension of Designation and Redesignation of Liberia Under Temporary Protected Status, 62 FR 16608 (Apr. 7, 1997) (discussing legal authority for redesignation of a country for TPS).

When the Secretary designates or redesignates a country for TPS, she also has the discretion to establish the date from which TPS applicants must demonstrate that they have been “continuously resid[ing]” in the United States. See section 244(c)(1)(A)(ii) of the INA, 8 U.S.C.S 1254a(c)(1)(A)(ii). This discretion permits the Secretary to tailor the “continuous residence” date to offer TPS to the group of eligible individuals that the Secretary deems appropriate.

The Secretary has determined that the “continuous residence” date for applicants for TPS under the redesignation of Syria shall be June 17, 2013. Initial applicants for TPS under this redesignation must also show they have been “continuously physically present” in the United States since October 1, 2013, which is the effective date of the Secretary's redesignation of Syria. See section 244(c)(1)(A)(i) of the INA, 8 U.S.C. 1254a(c)(1)(A)(i). For each initial TPS application filed under the redesignation, the final determination whether the applicant has met the “continuous physical presence” requirement cannot be made until October 1, 2013. USCIS, however, will issue EADs, as appropriate, during the registration period in accordance with 8 CFR 244.5(b).

Why is the Secretary extending the TPS designation for Syria and simultaneously redesignating Syria for TPS through March 31, 2015?

Over the past year, DHS and the Department of State (DOS) have continued to review conditions in Syria. Based on this review and after consulting with DOS, the Secretary has determined that an 18-month extension is warranted because the extraordinary and temporary conditions preventing the safe return of Syrian nationals that prompted the March 29, 2012 designation continue to be met. In fact, those conditions have worsened significantly. The Secretary has also decided to redesignate Syria for TPS based not only on the continuing extraordinary and temporary conditions, but also on the ongoing armed conflict in Syria. Furthermore, the Secretary has decided the conditions warrant changing the “continuous residence” date so as to provide TPS protection to eligible Syrian nationals who arrived between March 29, 2012 and June 17, 2013. The “continuous physical presence” date must be the effective date of the redesignation, which the Secretary has established as October 1, 2013 so that individuals granted TPS under the redesignation will have TPS for the same 18-month period through March 31, 2015 as TPS beneficiaries re-registering under the extension. See section 244(c)(1)(A)(i) of the INA; 8 U.S.C. 1254a(c)(1)(A)(i).

Conditions in Syria are unstable, volatile and dangerous, and have worsened significantly since the prior designation took effect on March 29, 2012. Acts of violence and human rights abuses have been reported in most major urban centers and have significantly increased over the last year, and access to humanitarian assistance for victims of the ongoing strife continues to be a serious challenge. By mid-July 2012, the International Committee of the Red Cross labeled the Syrian conflict a civil war. Economic sanctions continued to cripple the country, making basic goods like medicine difficult to obtain for civilians.

President Bashar al-Assad and the Syrian Arab Republic Government (SARG) have continued to use indiscriminate and deadly force, including military assaults on cities and residential areas throughout the country. The military continues to fight the opposition, responding with air strikes and heavy artillery to kill and capture combatants, and harming tens of thousands of civilians in the process. With an unrelenting armed opposition, including jihadist elements, and a military-backed government fighting to remain in power, the number of people displaced by violence has continued to rise.

Government-rebel clashes are ongoing throughout the country and, in addition to the ongoing attacks perpetrated by the Syrian government, rebel faction extremists, foreign fighters, and unidentified assailants have killed and abducted civilians, humanitarian workers, and United Nations (UN) personnel. International funding and support for the armed opposition continues to build, enhancing their communications, weaponry, and paramilitary capabilities.

Indigenous and international jihadist groups have emerged among the armed opposition in the fight against the SARG, increasingly employing tactics, including suicide bombings, which have often resulted in civilian casualties. In addition to the Free Syrian Army (FSA) and Syrian National Army, reports published in 2012 indicate that “a radical Islamist dynamic has emerged within the opposition.” The armed opposition has reportedly also been reinforced by foreign fighters.

As of November 2012, the rebels reportedly controlled large areas around Aleppo, Idlib, Haffeh, Muhradeh, Rastan, al Qusayr, Tal Abyad, and Deir ez-Zor. The rebels also carried out sophisticated attacks and takeovers. Clashes between rebels and government forces frequently resulted in civilian deaths.

As of April 2013, based on reports cited by U.N. officials, the estimated Syrian death toll for the duration of the conflict is 70,000, with approximately 15,000 of those deaths occurring in the early months of 2013. Civilians accounted for the majority of those killed. The provinces of Homs, Damascus, Idlib, Hama, Deraa, and Aleppo were reported to have suffered the most casualties. According to Amnesty International, the main cause of civilian deaths has been the armed forces' indiscriminate aerial bombardment and artillery shelling in heavily populated areas. The U.N. Human Rights Council, through the Independent International Commission of Inquiry, stated that scores of civilians have also been killed in explosions caused by suicide bombers and improvised explosive devices.

Among the civilian casualties, 108 people, mostly women and children, died in the Houla massacre in May 2012. The Independent International Commission of Inquiry blamed the SARG for the killings; other sources reported that most were killed by regime-affiliated death squads. Other notable massacres occurred, including an incident in Daraya where more than 500 people were killed in late August 2012. There were also reports that women have been subject to sexual and gender-based violence by SARG forces or pro-government militias at road checkpoints and during house searches.

Observers note that children have been placed at risk as well. In August 2012, the Independent International Commission of Inquiry reported that 125 children died in military offensives, sniper fire, attacks on protests, and massacres. Children have reportedly been used as human shields and placed at risk when combatants take posts at schools.

The UN reports there are approximately 4.25 million internally displaced persons (IDPs) in Syria. As the SARG military is expected to continue to fight the armed opposition as well as the jihadist groups to retain power of the country, the number of people displaced by violence is only expected to rise. According to an Office of the UN High Commissioner for Refugees (UNHCR) report from December 2012, at least 900,000 persons were displaced in 2012 due to fighting throughout the country.

According to UNHCR estimates, the flow of refugees into Syria's four neighboring states has increased dramatically since May 2012, with approximately 576,000 Syrian refugees registered in neighboring states by the end of 2012 and 1.1 million by early March 2013. In April 2013, an additional 230,000 refugees fled to neighboring countries. UNHCR predicts these numbers could increase to four million refugees and eight million IDPs by the end of 2013.

Based upon this review and after consultation with appropriate Government agencies, the Secretary finds that:

• The conditions that prompted the March 29, 2012 designation of Syria for TPS continue to be met. See sections 244(b)(3)(A) and (C) of the INA, 8 U.S.C. 1254a(b)(3)(A) and (C).

• There continue to be extraordinary and temporary conditions in Syria that continue to prevent the safe return of Syrian nationals. See section 244(b)(1)(C) of the INA, 8 U.S.C. 1254a(b)(1)(C).

• It is not contrary to the national interest of the United States to permit Syrian nationals (and persons who have no nationality who last habitually resided in Syria) who meet the eligibility requirements of TPS to remain in the United States temporarily. See section 244(b)(1)(C) of the INA, 8 U.S.C. 1254a(b)(1)(C).

• There is an armed conflict in Syria and, due to such conflict, requiring the return of Syrian nationals to Syria would pose a serious threat to their personal safety. See section 244(b)(1)(A) of the INA, 8 U.S.C. 1254a(b)(1)(A).

• The designation of Syria for TPS should be extended for an additional 18-month period from October 1, 2013 through March 31, 2015. See section 244(b)(3)(C) of the INA, 8 U.S.C. 1254a(b)(3)(C).

• Based on current country conditions, Syria should be simultaneously redesignated for TPS effective October 1, 2013 through March 31, 2015. See sections 244(b)(1)(A), (b)(1)(C), and (b)(2) of the INA; 8 U.S.C. 1254a(b)(1)(A), (b)(1)(C), and (b)(2).

• TPS applicants must demonstrate that they have continuously resided in the United States since June 17, 2013.

• The date by which TPS applicants must demonstrate that they have been continuously physically present in the United States is October 1, 2013, the effective date of the redesignation of Syria for TPS.

• There are approximately 2,600 current Syrian TPS beneficiaries who are expected to be eligible to re-register for TPS under the extension.

• It is estimated that 9,000 additional individuals may be eligible for TPS under the redesignation of Syria.

Notice of Extension of the TPS Designation of Syria and Redesignation of Syria for TPS

By the authority vested in me as Secretary under section 244 of the INA, 8 U.S.C. 1254a, I have determined, after consultation with the appropriate Government agencies, that the conditions that prompted the designation of Syria for TPS on March 29, 2012, continue to be met. See section 244(b)(3)(A) of the INA, 8 U.S.C. 1254a(b)(3)(A). In fact, those conditions have deteriorated further. In addition, there is now an on-going armed conflict in Syria that poses a serious threat to the personal safety of nationals of Syria if they were to be required to return to Syria. On the basis of these determinations, I am simultaneously extending the existing TPS designation of Syria for 18 months from October 1, 2013 through March 31, 2015, and redesignating Syria for TPS for 18 months from October 1, 2013 through March 31, 2015. See sections 244(b)(1)(A), (b)(1)(C), and (b)(2) of the INA; 8 U.S.C. 1254a(b)(1)(A), (b)(1)(C), and (b)(2). I have also determined that eligible individuals must demonstrate that they have continuously resided in the United States since June 17, 2013. See section 244(c)(1)(A)(ii) of the INA, 8 U.S.C. 1254a(c)(1)(A)(ii).

Janet Napolitano,
Secretary.

I am currently a Syrian TPS beneficiary. What should I do?

If you filed a TPS application during the original Syria TPS registration period that ran from March 29, 2012 through September 25, 2012, and that application was approved prior to June 17, 2013, then you need to file a re-registration application under the extension if you wish to maintain TPS benefits through March 31, 2015. You must also use the Application for Temporary Protected Status (Form I-821) to re-register for TPS. The 60-day open re-registration period will run from June 17, 2013 through August 16, 2013.

I have a pending TPS application filed during the original Syria TPS registration period that ran from March 29, 2012 through September 25, 2012. What should I do?

If your TPS application is still pending on June 17, 2013, then you do not need to file a new Application for Temporary Protected Status (Form I-821). Pending TPS applications will be treated as initial applications under the re-designation. Therefore, if your TPS application is approved, you will be granted TPS through March 31, 2015. If you have a pending TPS application and you wish to have an EAD valid through March 31, 2015, please refer to Table 1 to determine whether you should file a new Application for Employment Authorization (Form I-765).

Table 1—Form and EAD Information for Pending TPS Applications
If . . . | And . . . | Then . . .
You requested an EAD during the original registration period for Syria TPS | You received an EAD with Category C19 or A12 | You must file a new Application for Employment Authorization (Form I-765) with fee (or fee waiver request) if you wish to have a new EAD valid through March 31, 2015.
| You did not receive an EAD with Category C19 or A12 | You do not need to file a new Application for Employment Authorization (Form I-765). If your TPS application is approved, your Form I-765 will be approved through March 31, 2015.
You did not request an EAD during the original registration period for Syria TPS | You wish to have an EAD valid through March 31, 2015 | You must file a new Application for Employment Authorization (Form I-765) with fee (or fee waiver request).
| You do not wish to have an EAD valid through March 31, 2015 | You do not need to file a new Application for Employment Authorization (Form I-765).

I am not a TPS beneficiary, and I do not have a TPS application pending. What are the procedures for initial registration for TPS under the Syria redesignation?

If you are not a Syrian TPS beneficiary or have a pending application for Syria TPS, you may submit your TPS application during the 180-day initial registration period that will run from June 17, 2013 through December 16, 2013.

Required Application Forms and Application Fees To Register or Re-Register for TPS

To register or re-register for TPS for Syria, an applicant must submit each of the following two applications:

1. Application for Temporary Protected Status (Form I-821).

• If you are filing an initial application, you must pay the fee for the Application for Temporary Protected Status (Form I-821). See 8 CFR 244.2(f)(1) and 244.6 and information on initial filing on the USCIS TPS Web page at http://www.uscis.gov/tps.

• If you are filing for TPS re-registration, you do not need to pay the fee for the Application for Temporary Protected Status (Form I-821). See 8 CFR 244.17.

and

2. Application for Employment Authorization (Form I-765).

• If you are applying for initial registration and want an EAD, you must pay the fee for the Application for Employment Authorization (Form I-765) only if you are age 14 through 65. No fee for the Application for Employment Authorization (Form I-765) is required if you are under the age of 14 or are 66 and older and applying for initial registration.

• If you are applying for re-registration (or have a pending initial TPS application filed during the original designation and you received a previous TPS-related EAD), you must pay the fee for the Application for Employment Authorization (Form I-765) only if you want an EAD.

• You do not pay the fee for the Application for Employment Authorization (Form I-765) if you are not requesting an EAD, regardless of whether you are applying for initial registration or re-registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may re-file your application packet before the initial filing deadline of December 16, 2013. If you submit your application with a fee waiver request before that deadline, but you receive a fee waiver denial and there are fewer than 45 days before the filing deadline (or the deadline has passed), you may still re-file your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would file the Application for Temporary Protected Status (Form I-821) with the fee and the Application for Employment Authorization (Form I-756) without fee and without requesting an EAD.

Refiling a Re-Registration TPS Application After Receiving a Denial of a Fee Waiver Request

USCIS urges all re-registering applicants to file as soon as possible within the 60-day re-registration period so that USCIS can process the applications and issue EADs promptly. Filing early will also allow those applicants who may receive denials of their fee waiver requests to have time to re-file their applications before the re-registration deadline. If, however, an applicant receives a denial of his or her fee waiver request and is unable to re-file by the re-registration deadline, the applicant may still re-file his or her application. This situation will be reviewed under good cause for late re-registration. However, applicants are urged to re-file within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee, until after USCIS has approved the individual's TPS re-registration, if he or she is eligible.

Mailing Information

Mail your application for TPS to the proper address in Table 2.

Table 2—Mailing Addresses
If . . . | Mail to . . .
You are applying through the U.S. Postal Service | U.S. Citizenship and Immigration Services, Attn: TPS Syria, P.O. Box 6943, Chicago, IL 60680-6943.
You are using a non-U.S. Postal Service delivery service | U.S. Citizenship and Immigration Services Attn: TPS Syria, 131 S. Dearborn 3rd Floor, Chicago, IL 60603-5517.

If you were granted TPS by an Immigration Judge (IJ) or the Board of Immigration Appeals (BIA), and you wish to request an EAD or are re-registering for the first time following a grant of TPS by the IJ or BIA, please mail your application to the appropriate address in Table 2. Upon receiving a Notice of Action (Form I-797) from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

You cannot electronically file your application when re-registering or applying for initial registration for Syria TPS. Please mail your application to the mailing address listed in Table 2.

Employment Authorization Document (EAD)

May I request an interim EAD at my local USCIS office?

No. USCIS will not issue interim EADs to TPS applicants and re-registrants at local offices.

Will my current EAD, which is set to expire on September 30, 2013, be automatically extended for 6 months?

No. This Notice does not automatically extend previously issued EADs. DHS has announced the extension of the TPS designation of Syria and established the re-registration period at an early date to allow sufficient time for USCIS to process EAD requests prior to the September 30, 2013 expiration date. You must apply during the 60-day re-registration period. Failure to file your TPS application during the re-registration period without good cause may result in gaps in work authorization. DHS strongly encourages you to apply as early as possible within the re-registration period.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.” Employers may not reject a document based upon a future expiration date.

What documentation may I show my employer if I am already employed but my current TPS-related EAD is set to expire?

You must present any document from List A or any document from List C on Employment Eligibility Verification (Form I-9) to reverify employment authorization. Your employer is required to reverify on Employment Eligibility Verification (Form I-9) the employment authorization of current employees upon the expiration of a TPS-related EAD. Your employer should use either Section 3 of the Employment Eligibility Verification (Form I-9) originally completed for the employee or, if this section has already been completed or if the version of Employment Eligibility Verification (Form I-9) is no longer valid, in Section 3 of a new Employment Eligibility Verification (Form I-9) using the most current version. Note that your employer may not specify which List A or List C document employees must present.

USCIS anticipates that it will be able to process and issue new EADs for existing TPS Syria beneficiaries before their current EADs expire on September 30, 2013. However, re-registering beneficiaries are encouraged to file as early as possible within the 60-day re-registration period to help ensure that they receive their EADs promptly.

Can my employer require that I produce any other documentation to prove my status, such as proof of my Syrian citizenship?

No. When completing Employment Eligibility Verification (Form I-9), including reverifying employment authorization, employers must accept any documentation that appears on the “Lists of Acceptable Documents” for Employment Eligibility Verification (Form I-9) and that reasonably appears to be genuine and that relates to you. Employers may not request documentation that does not appear on the “Lists of Acceptable Documents.” Therefore, employers may not request proof of Syrian citizenship when completing Employment Eligibility Verification (Form I-9) for new hires or reverifying the employment authorization of current employees. If presented with an EAD that is unexpired on its face, employers should accept such EAD as a valid List A document so long as the EAD reasonably appears to be genuine and to relate to the employee. Refer to the Note to Employees section for important information about your rights if your employer rejects lawful documentation, requires additional documentation, or otherwise discriminates against you based on your citizenship or immigration status, or your national origin.

Note to All Employers

Employers are reminded that the laws requiring proper employment eligibility verification and prohibiting unfair immigration-related employment practices remain in full force. This Notice does not supersede or in any way limit applicable employment verification rules and policy guidance, including those rules setting forth reverification requirements. For general questions about the employment eligibility verification process, employers may call USCIS at 888-464-4218 (TTY 877-875-6028) or email USCIS at I-9Central@dhs.gov. Calls and emails are accepted in English and many other languages including Arabic. For questions about avoiding discrimination during the employment eligibility verification process, employers may also call the U.S. Department of Justice, Office of Special Counsel for Immigration-Related Unfair Employment Practices (OSC) Employer Hotline at 800-255-8155 (TTY for the hearing impaired is at 800-237-2515), which offers language interpretation in numerous languages, or email OSC at osccrt@usdoj.gov.

Note to All Employees

For general questions about the employment eligibility verification process, employees may call USCIS at 888-897-7781 (TTY 877-875-6028) or email USCIS at I-9Central@dhs.gov. Calls and emails are accepted in English, Spanish and many other languages including Arabic. Employees or applicants may also call the OSC Worker Information Hotline at 800-255-7688 (TTY for the hearing impaired is at 800-237-2515) for information regarding employment discrimination based upon citizenship, immigration status, or national origin, or for information regarding discrimination related to Employment Eligibility Verification (Form I-9) and E-Verify. The OSC Worker Information Hotline provides language interpretation in numerous languages.

To comply with the law, employers must accept any document or combination of documents from the List of Acceptable Documents if the documentation reasonably appears to be genuine and to relate to the employee. Employers may not require extra or additional documentation beyond what is required for Employment Eligibility Verification (Form I-9) completion. Further, employers participating in E-Verify that receive an E-Verify initial case result of “Tentative Nonconfirmation (TNC)” must promptly inform employees of the TNC and give such employees an opportunity to contest the TNC. A TNC case result means that the information entered into E-Verify from Form I-9 differs from Social Security Administration, DHS, or DOS records. Employers may not terminate, suspend, delay training, withhold pay, lower pay or take any other adverse action against an employee based on the employee's decision to contest a TNC or because the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). Additional information about proper nondiscriminatory I-9 and E-Verify procedures is available on the OSC Web site at http://www.justice.gov/crt/about/osc and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your unexpired EAD card;

(2) A copy of your Application for Temporary Protected Status Notice of Action (Form I-797) for this re-registration; and/or

(3) A copy of your past or current Application for Temporary Protected Status Notice of Action (Form I-797), if you received one from USCIS.

Check with the government agency regarding which document(s) the agency will accept. You may also provide the agency with a copy of this Notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-14101 Filed 6-14-13; 8:45 am]

BILLING CODE 9111-97-P